CONSUMER FINANCIAL PROTECTION BUREAU

12 CFR Part 1082

[Docket No. CFPB-2025-0016]

RIN 3170-AB43

Rescission of State Official Notification Rules

AGENCY: Consumer Financial Protection Bureau.

ACTION: Direct final rule; request for comments.

SUMMARY: This direct final rule rescinds the Consumer Financial Protection Bureau's (Bureau's) procedures by which a State official must notify the Bureau when the official takes an action to enforce the Consumer Financial Protection Act.

DATES: The final rule is effective July 21, 2025, unless significant adverse comments are received by June 20, 2025. For additional information, see the SUPPLEMENTARY INFORMATION below.

ADDRESSES: You may submit responsive information and other comments, identified by Docket No. CFPB-2025-0016, by any of the following methods:

• Federal eRulemaking Portal: https://www.regulations.gov. Follow the instructions for submitting comments. A brief summary of this document will be available at https://www.regulations.gov/docket/CFPB-2025-0016.

• Email: 2025-DFR-State-Rescission@cfpb.gov. Include Docket No. CFPB-2025-0016 in the subject line of the message.

• Mail/Hand Delivery/Courier: Comment Intake—Rescission of State Official Notification Rules, c/o Legal Division Docket Manager, Consumer Financial Protection Bureau, 1700 G Street NW, Washington, DC 20552.

Instructions: The Bureau encourages the early submission of comments. All submissions should include the agency name and docket number. Because paper mail is subject to delay, commenters are encouraged to submit comments electronically. In general, all comments received will be posted without change to https://www.regulations.gov. All submissions, including attachments and other supporting materials, will become part of the public record and subject to public disclosure. Proprietary information or sensitive personal information, such as account numbers or Social Security numbers, or names of other individuals, should not be included. Submissions will not be edited to remove any identifying or contact information.

FOR FURTHER INFORMATION CONTACT: George Karithanom, Regulatory Implementation and Guidance Program Analyst, Office of Regulations, at 202-435-7700. If you require this document in an alternative electronic format, please contact CFPB_Accessibility@cfpb.gov.

SUPPLEMENTARY INFORMATION:

I. Direct Final Rulemaking Procedure

This is a direct final rulemaking. A significant adverse comment is one that opposes the rule and raises, alone or in combination with other comments, a sufficiently serious issue under each of the independent grounds provided to support the rule that additional consideration and a substantive response are required. If significant adverse comments are received, notice will be published in the Federal Register before the effective date either withdrawing the rule or issuing a new final rule that responds to significant adverse comments and carries a new effective date.

II. Background

Section 1042(b) of the Consumer Financial Protection Act of 2010 (CFPA) requires States to notify the Bureau and “the prudential regulators,” see 12 U.S.C. 5481(24), before “initiating any action in a court or other administrative or regulatory proceeding against any covered person as authorized by subsection (a) [of section 1042] to enforce any provision” of the CFPA. See 12 U.S.C. 5552(b)(1)(A). By statute, such notice is required to be “timely” in the ordinary course or “immediately upon instituting the action or proceeding” in the case of an emergency. 12 U.S.C. 5552(b)(1)(B). And the CFPA requires that the notice contain “a copy of the complete complaint to be filed” and a written description of “such action or proceeding,” 12 U.S.C. 5552(b)(1)(A), as well as a description of the identity of the parties, the alleged facts underlying the proceeding, and “whether there may be a need to coordinate the prosecution of the proceeding so as not to interfere with any action, including any rulemaking, undertaken by the Bureau, a prudential regulator, or another Federal agency.” 12 U.S.C. 5552(b)(1)(C). On June 29, 2012, the Bureau issued regulations, codified at 12 CFR 1082.1, regarding States' obligations to notify the Bureau and prudential regulators of actions covered by section 1042.

III. Analysis

Pursuant to the Bureau's policy of eliminating unnecessary regulatory burdens and rescinding rules that are not necessary to effectuate Congress's statutes, the Bureau is rescinding the regulations related to state notification codified at 12 CFR 1082.1. The regulations at 12 CFR 1082.1, with only minor tweaks that are not necessary to provide the Bureau or the prudential regulators adequate notice of State actions, merely restate the notification requirements codified in section 1042(b). As such, the notification regulations are unnecessary and should be eliminated from the Code of Federal Regulations. Where Congress's statutes are sufficiently clear and prescriptive, regulations do little more than increase costs and cause confusion, and so are unnecessary.

IV. Legal Authority

Section 1042(c) of the CFPA, 12 U.S.C. 5552(c).

V. Section 1022 Analysis

In developing this rule, the Bureau has considered the potential benefits, costs, and impacts as required by section 1022(b)(2)(A) of the CFPA, 12 U.S.C. 5512(b)(2)(A). This rule will reduce regulatory burdens on State Officials and does not impose any obligations on consumers or have any direct impact on their access to consumer financial products or services. Further, it has no unique impact on insured depository institutions or insured credit unions with less than $10 billion in assets, as described in section 1026(a) of the CFPA. Finally, it does not have any unique impact on rural consumers.

VI. Procedural Matters

A. Regulatory Flexibility Act

The Regulatory Flexibility Act generally requires an agency to conduct an initial regulatory flexibility analysis (IRFA) and a final regulatory flexibility analysis of any rule subject to notice-and-comment rulemaking requirements unless the agency certifies that the rule will not have a significant economic impact on a substantial number of small entities (SISNOSE). The Bureau is also subject to specific additional procedures under the RFA involving convening a panel to consult with small business representatives before proposing a rule for which an IRFA is required.

This rule's only effect is to clarify State Officials' statutory obligations, see 12 U.S.C. 552(b). It has no effect on small entities of any kind.

Accordingly, the Director hereby certifies that this rule does not have a significant economic impact on a substantial number of small entities. Thus, neither an IRFA nor a small business review panel is required.

B. Paperwork Reduction Act

This rule is deregulatory and will eliminate the more substantial information-collection requirements imposed by the regulations codified at 12 CFR 1082.1. It does not impose any additional collection requirements.

List of Subjects in 12 CFR Part 1082

Banks, Banking, Consumer protection, Credit unions, Law enforcement, National banks, Savings associations, State and local governments.

PART 1882—[REMOVED AND RESERVED]

For the reasons set forth above, under the authority of 12 U.S.C. 5552(c), the Bureau is removing and reserving 12 CFR part 1082.

Russell Vought,
Acting Director, Consumer Financial Protection Bureau.

[FR Doc. 2025-08640 Filed 5-20-25; 8:45 am]

BILLING CODE 4810-AM-P